DEPARTMENT OF HOMELAND SECURITY

Coast Guard

[Docket No. USCG-2022-0350; Control No. 1625-0041]

Information Collection Request to Office of Management and Budget

AGENCY: Coast Guard, DHS.

ACTION: Notice of withdrawal.

SUMMARY: The Coast Guard is withdrawing the sixty-day notice for the Information Collection Request (ICR) regarding Office of Management and Budget (OMB) control number 1625-0041, for Various International Agreement Pollution Prevention Certificates and Documents, and Equivalency Certificates. The Coast Guard published a notice of ICR in the Federal Register on November 29, 2022, titled “Information Collection Request to Office of Management and Budget; OMB Control Number: 1625-0041”. We are withdrawing that notice because it is a duplicate submission of the subsequent sixty-day notice and request for public comment associated with this ICR that we published in the Federal Register on January 31, 2023.

DATES: The sixty-day notice published on November 29, 2022 (87 FR 73316) is withdrawn on April 4, 2023.

ADDRESSES: The notices discussed in this document are available at the Federal eRulemaking Portal at https://www.regulations.gov. The notice published on November 29, 2022 (87 FR 73316) is available in docket USCG-2022-0350. The subsequent duplicate ICR notice and supporting materials that Coast Guard will use going forward for this OMB approval are located in docket USCG-2023-0094.

FOR FURTHER INFORMATION CONTACT: A.L. Craig, Office of Privacy Management, email Albert.L.Craig@uscg.mil, telephone 202-475-3528, or fax 202-372-8405, for questions on these documents.

SUPPLEMENTARY INFORMATION: On November 29, 2022, the Coast Guard published a sixty-day notice in the Federal Register (87) for the ICR entitled “1625-0041, Various International Agreement Pollution Prevention Certificates and Documents, and Equivalency Certificates. The intent of the notice was to request an extension of an existing collection of information without change. The Coast Guard is withdrawing the sixty-day notice published on November 29, 2022 (87 FR 73316), due to an administrative oversight which resulted in duplicate submissions. The sixty-day notice associated with this ICR titled “Information Collection Request to Office of Management and Budget” that subsequently published in the Federal Register on January 31, 2023 (88 FR 6291), remains in effect for public comment. The Coast Guard will use the docket related to the second publication, docket USCG-2023-0094, going forward for actions related to this ICR extension request.

This notice is issued under the authority of the Paperwork Reduction Act of 1995; 44 U.S.C. chapter 35, as amended, 33 U.S.C. 1901-1911.

Dated: March 30, 2023.
Kathleen Claffie,
Chief, Office of Privacy Management, U.S. Coast Guard.

[FR Doc. 2023-06960 Filed 4-3-23; 8:45 am]

BILLING CODE 9110-04-P